DEPARTMENT OF AGRICULTURE

Food Safety and Inspection Service

[Docket No. FSIS-2017-0042]

Notice of Request for a New Information Collection: Food Safety Behaviors and Consumer Education: Focus Group Research

AGENCY: Food Safety and Inspection Service, USDA.

ACTION: Notice and request for comments.

SUMMARY: In accordance with the Paperwork Reduction Act of 1995 and Office of Management and Budget (OMB) regulations, the Food Safety and Inspection Service (FSIS) is announcing its intention to collect information from focus groups on consumer food safety knowledge, attitudes, and practices and to elicit consumer responses to FSIS food safety messages and determine their impact on consumer food safety knowledge and behavior.

DATES: Submit comments on or before January 19, 2018.

ADDRESSES: FSIS invites interested persons to submit comments on this information collection. Comments may be submitted by one of the following methods:

• Federal eRulemaking Portal: This Web site provides the ability to type short comments directly into the comment field on this Web page or attach a file for lengthier comments. Go to http://www.regulations.gov. Follow the on-line instructions at that site for submitting comments.

• Mail, including CD-ROMs, etc.: Send to Docket Clerk, U.S. Department of Agriculture, Food Safety and Inspection Service, Docket Clerk, Patriots Plaza 3, 1400 Independence Avenue SW., Mailstop 3782, Room 8-163A, Washington, DC 20250-3700.

• Hand- or courier-delivered submittals: Deliver to Patriots Plaza 3, 355 E Street SW., Room 8-163A, Washington, DC 20250-3700.

Instructions: All items submitted by mail or electronic mail must include the Agency name and docket number FSIS-2017-0042. Comments received in response to this docket will be made available for public inspection and posted without change, including any personal information, to http://www.regulations.gov.

Docket: For access to background documents or comments received, go to the FSIS Docket Room at Patriots Plaza 3, 355 E Street SW., Room 8-164, Washington, DC 20250-3700 between 8:00 a.m. and 4:30 p.m., Monday through Friday.

FOR FURTHER INFORMATION CONTACT: Gina Kouba, Office of Policy and Program Development, Food Safety and Inspection Service, USDA, 1400 Independence Avenue SW., Room 6065, South Building, Washington, DC 20250-3700; (202) 720-5627.

SUPPLEMENTARY INFORMATION:

Title: Food Safety Behaviors and Consumer Education: Focus Group Research.

Type of Request: New information collection.

Abstract: FSIS has been delegated the authority to exercise the functions of the Secretary (7 CFR 2.18, 2.53) as specified in the Federal Meat Inspection Act (FMIA) (21 U.S.C. 601, et seq.), and the Poultry Products Inspection Act (PPIA) (21 U.S.C. 451, et seq.). FSIS protects the public by verifying that meat and poultry products are safe, wholesome, not adulterated, and correctly labeled and packaged.

FSIS's Office of Public Affairs and Consumer Education (USDA, FSIS, OPACE) ensures that all segments of the farm-to-table chain receive valuable food safety information. The consumer education programs developed by OPACE inform the public how to safely handle, prepare, and store meat, poultry, and processed egg products so as to minimize incidence of foodborne illness.

OPACE strives to continuously increase consumer awareness of recommended food safety practices and to improve food-handling behaviors at home. OPACE shares its messages through The Food Safe Families campaign (a cooperative effort of USDA, Food and Drug Administration [FDA], and Centers for Disease Control and Prevention [CDC]); social media; AskKaren (an online database of frequently asked food safety questions); the FSIS Web site; FoodSafety.gov (a Web site operated by FSIS, FDA and CDC used to promote safe food handling to consumers); the Meat and Poultry Hotline; and various publications and events. These messages are focused on the four core food safety behaviors: Clean, separate, cook, and chill.

By testing planned and tailoring existing consumer messaging, FSIS can better ensure that it is effectively communicating with the public to improve consumer food safety practices. Findings from the proposed focus group research will provide insight into how to effectively inform consumers about recommended safe food handling practices. The results of this research will be used to enhance messaging to improve consumers' food safety behaviors and help prevent foodborne illness.

To collect information on consumer food safety knowledge, attitudes, and practices, and to elicit consumer responses to FSIS food safety messages and determine their impact on consumer food safety knowledge and behavior, FSIS is requesting approval for a new information collection to conduct consumer focus groups. Focus groups are typically used for developing and testing health communication messages. Qualitative research is particularly useful in studies such as this one, in which the research is exploratory in nature. These findings help provide insight and direction into the topics of interest and provide an understanding of the target audience's attitudes and behaviors.

FSIS has contracted with RTI International to conduct two series of focus groups with adults. Each series will include 16 focus groups. The first series will be conducted in Fiscal Year (FY) 2018, and the second series will be conducted in FY 2020.

In FY 2018, two sets of focus groups will be conducted, with eight groups per set. The first set of focus groups (Set 1) in FY 2018 will be conducted with parents who have children younger than 18 years old. In Set 1, two focus groups will be conducted in each of four different locations. In each location, one group will be conducted with English-speaking adults and one group with Spanish-speaking adults. The groups will be segmented by education level to increase the homogeneity of the groups.

The second set of eight focus groups (Set 2) in FY 2018 will be conducted with English-speaking adults who have intentionally prepared meat or poultry dishes at home to be served undercooked or raw, such as chicken liver pate, hamburgers cooked rare or medium rare, kibbeh, raw meat sandwiches, or beef tartare. The groups will be segmented by type of food and conducted in locations where consumption of these foods is common based on ethnic, cultural, or other traditions.

A second series of focus groups will be conducted in FY 2020 with a total of 16 focus groups. The topics for these groups have yet to be determined and will ultimately inform the development of communication campaigns on foodborne illness prevention.

For each series of focus groups, a local market research company in each location will recruit potential participants from their databases and other sources. They will also provide the facilities for hosting the focus group discussions. Using convenience sampling, a non-probability sampling technique where subjects are selected because of their convenient accessibility instead of random selection, the market research companies will recruit potential participants who meet the eligibility criteria as defined by the screening questionnaires.

An experienced moderator will conduct the focus group discussions and use a facilitator guide, which will serve as an outline and provide structure for the focus group discussions. Each focus group discussion will be professionally recorded (audio and video) by the local market research companies. The audio-recordings will be professionally transcribed. The moderators will review the video-recordings and transcripts of the focus group discussions and prepare a detailed summary of each discussion. The moderators will then analyze the summaries to identify common themes and any exceptions to these themes. The contractor will summarize these findings in a final report to FSIS. No statistical analyses will be conducted.

Estimate of Burden: For each series of 16 focus groups, it is expected that 1,280 individuals will complete the screening questionnaire, and it is assumed that 160 will be eligible and subsequently agree to participate in the focus group study (10 people per group). Each screening questionnaire is expected to take 8 minutes (0.133 hour). Taking part in the focus group discussion will take a total of 90 minutes (1.5 hours). For each series of 16 focus groups, the estimated annual reporting burden is 410.24 hours, which is the sum of the burden estimates for the screening and focus group discussion. For the two series of focus groups (32 groups total), the estimated total number of individuals to be screened is 2,560 (1,280 each year) and the estimated total number of individuals to take part in the focus group discussions is no more than 320 (160 each year). The estimated total burden for the two series of focus groups is 820.48 hours (410.24 * 2).

Estimated Annual Reporting Burden for the FY 2018 Focus Group Study
Study component | Estimated number of respondents | Annual frequency per response | Total annual responses | Hours per response | Total hours
Screening questionnaire | 1,280 | 1 | 1,280 | 0.133 (8 min.) | 170.24
Focus group discussion | 160 | 1 | 160 | 1.5 (90 min.) | 240
Total |  |  |  |  | 410.24

Estimated Annual Reporting Burden for the FY 2020 Focus Group Study
Study component | Estimated number of respondents | Annual frequency per response | Total annual responses | Hours per response | Total hours
Screening questionnaire | 1,280 | 1 | 1,280 | 0.133 (8 min.) | 170.24
Focus group discussion | 160 | 1 | 160 | 1.5 (90 min.) | 240
Total |  |  |  |  | 410.24

Respondents: Consumers.

Estimated No. of Respondents: 2,560.

Estimated No. of Annual Responses per Respondent: 1.

Estimated Total Burden on Respondents: 820.48 hours.

Copies of this information collection assessment can be obtained from Gina Kouba, Office of Policy and Program Development, Food Safety and Inspection Service, USDA, 1400 Independence SW., Room 6077, South Building, Washington, DC 20250, (202)690-6510.

Comments are invited on: (a) Whether the proposed collection of information is necessary for the proper performance of FSIS's functions, including whether the information will have practical utility; (b) the accuracy of FSIS's estimate of the burden of the proposed collection of information, including the validity of the method and assumptions used; (c) ways to enhance the quality, utility, and clarity of the information to be collected; and (d) ways to minimize the burden of the collection of information, including through the use of appropriate automated, electronic, mechanical, or other technological collection techniques, or other forms of information technology. Comments may be sent to both FSIS, at the addresses provided above, and the Desk Officer for Agriculture, Office of Information and Regulatory Affairs, Office of Management and Budget, Washington, DC 20253.

Responses to this notice will be summarized and included in the request for OMB approval. All comments will also become a matter of public record.

Additional Public Notification

Public awareness of all segments of rulemaking and policy development is important. Consequently, FSIS will announce this Federal Register publication on-line through the FSIS Web page located at: http://www.fsis.usda.gov/federal-register.

FSIS also will make copies of this publication available through the FSIS Constituent Update, which is used to provide information regarding FSIS policies, procedures, regulations, Federal Register notices, FSIS public meetings, and other types of information that could affect or would be of interest to our constituents and stakeholders. The Update is available on the FSIS Web page. Through the Web page, FSIS is able to provide information to a much broader, more diverse audience. In addition, FSIS offers an email subscription service which provides automatic and customized access to selected food safety news and information. This service is available at: http://www.fsis.usda.gov/subscribe. Options range from recalls to export information, regulations, directives, and notices. Customers can add or delete subscriptions themselves, and have the option to password protect their accounts.

USDA Non-Discrimination Statement

No agency, officer, or employee of the USDA shall, on the grounds of race, color, national origin, religion, sex, gender identity, sexual orientation, disability, age, marital status, family/parental status, income derived from a public assistance program, or political beliefs, exclude from participation in, deny the benefits of, or subject to discrimination any person in the United States under any program or activity conducted by the USDA.

How To File a Complaint of Discrimination

To file a complaint of discrimination, complete the USDA Program Discrimination Complaint Form, which may be accessed online at http://www.ocio.usda.gov/sites/default/files/docs/2012/Complain_combined_6_8_12.pdf, or write a letter signed by you or your authorized representative.

Send your completed complaint form or letter to USDA by mail, fax, or email:

Mail: U.S. Department of Agriculture, Director, Office of Adjudication, 1400 Independence Avenue SW., Washington, DC 20250-9410, Fax: (202) 690-7442, Email: program.intake@usda.gov.

Persons with disabilities who require alternative means for communication (Braille, large print, audiotape, etc.), should contact USDA's TARGET Center at (202) 720-2600 (voice and TDD).

Done at Washington, DC, on: November 15, 2017.
Paul Kiecker,
Acting Administrator.

[FR Doc. 2017-25099 Filed 11-17-17; 8:45 am]

BILLING CODE 3410-DM-P